DEPARTMENT OF COMMERCE

National Oceanic and Atmospheric Administration

Evaluation of Coastal Zone Management Programs and National Estuarine Research Reserves

AGENCY: Office of Ocean and Coastal Resource Management, National Ocean Service, National Oceanic and Atmospheric Administration (NOAA), DOC.

ACTION: Notice of intent to evaluate and notice of availability of final evaluation findings.

SUMMARY: The NOAA Office of Ocean and Coastal Resource Management (OCRM) announces its intent to evaluate the performance of the New Jersey Coastal Management Program; the Maryland Coastal Management Program; the Florida Coastal Management Program; the Maine Coastal Management Program and the Wells National Estuarine Research Reserve, Maine; the South Slough National Estuarine Research Reserve, Oregon; and the Wisconsin Coastal Management Program.

The Coastal Zone Management Program evaluations will be conducted pursuant to section 312 of the Coastal Zone Management Act of 1972 (CZMA), as amended, and regulations at 15 CFR part 923, subpart L. The National Estuarine Research Reserve evaluations will be conducted pursuant to sections 312 and 315 of the CZMA and regulations at 15 CFR part 921, subpart E and part 923, subpart L.

The CZMA requires continuing review of the performance of states with respect to coastal program implementation. Evaluation of Coastal Zone Management Programs and National Estuarine Research Reserves requires findings concerning the extent to which a State has met the national objectives, adhered to its Coastal Management Program document or Reserve final management plan approved by the Secretary of Commerce, and adhered to the terms of financial assistance awards funded under the CZMA.

The evaluations will include a site visit, consideration of public comments, and consultations with interested Federal, State, and local agencies and members of the public. Public meetings will be held as part of the site visits.

Notice is hereby given of the dates of the site visits for the listed evaluations, and the dates, local times, and locations of the public meetings during the site visits.

The New Jersey Coastal Management Program evaluation site visit will be held May 10-14, 2004. Two public meetings will be held during the week. The first public meeting will be on Wednesday, May 12, 2004, at 2 p.m., in the Classroom at the Jacques Cousteau National Estuarine Research Reserve, 130 Great Bay Boulevard, Tuckerton, New Jersey. The second public meeting will be on Thursday, May 13, 2004, at 7 p.m., at the Marine Sciences Consortium, Sandy Hook Field Station, Building #22, Main Conference Room, Fort Hancock, New Jersey.

The Maryland Coastal Management Program evaluation site visit will be held May 10-14, 2004. One public meeting will be held during the week. The public meeting will be on Monday, May 10, 2004, from 7 p.m. to 9 p.m., at the Chesapeake Bay Program Office, Joe Macknis Memorial Conference Room, 410 Severn Avenue, Suite 116, Annapolis, Maryland.

The Florida Coastal Management Program evaluation site visit will be held May 17-21, 2004. One public meeting will be held during the week. The public meeting will be on Monday, May 17, 2004, at 6 p.m., at the Department of Environmental Protection, Douglas Building, Conference Room A, 3900 Commonwealth Boulevard, Tallahassee, Florida.

The Maine Coastal Management Program and Wells National Estuarine Research Reserve, Maine, joint evaluation site visit will be held June 7-11, 2004. Two public meetings will be held during the week. The first public meeting will be on Tuesday, June 8, 2004, at 6 p.m., at the Wells National Estuarine Research Reserve, Mather Auditorium, 342 Laudholm Farm Road, Wells, Maine. The second public meeting will be on Thursday, June 10, 2004, at 7 p.m., at the Camden Public Library, Main Street, Camden, Maine.

The South Slough National Estuarine Research Reserve, Oregon, evaluation site visit will be held June 14-18, 2004. One public meeting will be held during the week. The public meeting will be on Thursday, June 17, 2004, at 6:30 p.m., at the North Bend Library, 1800 Sherman Avenue, North Bend, Oregon.

The Wisconsin Coastal Management Program evaluation site visit will be held June 21-25, 2004. One public meeting will be held during the week. The public meeting will be held on Monday, June 21, 2004, at 5:30 p.m., at the Northern Great Lakes Visitor Center, Multipurpose Room, 29270 County G, Ashland, Wisconsin.

Copies of States' most recent performance reports, as well as OCRM's notifications and supplemental request letters to the states, are available upon request from OCRM. Written comments from interested parties regarding these Programs are encouraged and will be accepted for each Program until 15 days after the last public meeting held for that Program. Please direct written comments to: Ralph Cantral, Chief, National Policy and Evaluation Division, Office of Ocean and Coastal Resource Management, NOS/NOAA, 1305 East-West Highway, N/ORM7, 10th Floor, Silver Spring, Maryland 20910. When the evaluations are completed, OCRM will place a notice in the Federal Register announcing the availability of the Final Evaluation Findings.

Notice is hereby given of the availability of the final evaluation findings for the Alaska and Guam Coastal Management Programs and the Kachemak Bay National Estuarine Research Reserve, Alaska. Sections 312 and 315 of the Coastal Zone Management Act of 1972 (CZMA), as amended, require a continuing review of the performance of coastal states with respect to approval of coastal management programs and the operation and management of NERRs.

The State of Alaska and territory of Guam were found to be implementing and enforcing their federally approved coastal management programs, addressing the national coastal management objectives identified in CZMA section 303(2)(A)-(K), and adhering to the programmatic terms of their financial assistance awards. The Kachemak Bay NERR was found to be adhering to programmatic requirements of the NERR System. Copies of these final evaluation findings may be obtained upon written request from: Ralph Cantral, Chief, National Policy and Evaluation Division, Office of Ocean and Coastal Resource Management, NOS/NOAA, 1305 East-West Highway, N/ORM7, 10th Floor, Silver Spring, Maryland 20910.

FOR FURTHER INFORMATION CONTACT: Ralph Cantral, Chief, National Policy and Evaluation Division, Office of Ocean and Coastal Resource Management, NOS/NOAA, 1305 East-West Highway, N/ORM7, 10th Floor, Silver Spring, Maryland 20910, (301) 713-3155, extension 118.

Federal Domestic Assistance Catalog 11.419; Coastal Zone Management Program Administration.

Dated: March 16, 2004.
Jamison S. Hawkins,
Deputy Assistant Administrator, Ocean Services and Coastal Zone Management.

[FR Doc. 04-6419 Filed 3-22-04; 8:45 am]

BILLING CODE 3510-08-P